ENVIRONMENTAL PROTECTION AGENCY

40 CFR Part 52

[PA4091b;FRL-6719-8]

Approval and Promulgation of Air Quality Implementation Plans; Pennsylvania; Approval of VOC and NOX RACT Determinations for Individual Sources; Extension of Comment Period and Correction of Proposal

AGENCY: Environmental Protection Agency (EPA).

ACTION: Proposed rule; extension of the comment period and correction.

SUMMARY: In a document published on April 18, 2000 (65 FR 20788), EPA proposed to approve revisions to the Commonwealth of Pennsylvania's State Implementation Plan (SIP) establishing reasonably available control technology (RACT) requirements for twenty-six major sources of volatile organic compounds (VOCs) and nitrogen oxides (NOX) located in Pennsylvania. EPA specified that comments had to be submitted by May 18, 2000. An individual stated that he required additional time to review the proposal and requested an extension of the comment period. In response, EPA is extending the comment period until July 19, 2000. Also, EPA stated in the notice of proposed rulemaking that details regarding the twenty-six state submittals and EPA's evaluations of them could be found in Technical Support Documents (TSDs). The TSDs provide details regarding twenty-seven submittals. EPA is clarifying that its proposed approval applies to all submittals discussed in the TSDs except that for International Business Systems, Inc. EPA will address Pennsylvania's submittal for International Business Systems, Inc. at a later date.

DATES: Comments must be received on or before July 19, 2000.

ADDRESSES: Written comments should be addressed to Kathleen Henry, Chief, Permits and Technical Assessment Branch, Mailcode 3AP11, U.S. Environmental Protection Agency, Region III, 1650 Arch Street, Philadelphia, Pennsylvania 19103.

FOR FURTHER INFORMATION CONTACT: Ray Chalmers, U.S. EPA Region III, by phone at (215) 814-2061 or by e-mail at chalmers.ray@epa.gov.

SUPPLEMENTARY INFORMATION:

Administrative Requirements

Under Executive Order 12866 (58 FR 51735, October 4, 1993), this action is not a “significant regulatory action” and, is therefore not subject to review by the Office of Management and Budget. In addition, this action does not impose any enforceable duty or contain any unfunded mandate as described in the Unfunded Mandates Reform Act of 1995 (Pub. L. 104-4), or require prior consultation with State officials as specified by Executive Order 12875 (58 FR 58093, October 28, 1993), or involve special consideration of environmental justice related issues as required by Executive Order 12898 (59 FR 7629, February 16, 1994).

EPA does not believe that it is necessary to subject this action extending the comment period and correcting the proposal to notice-and-comment requirements. Under the Administrative Procedure Act or any other statute, it is not subject to the provisions of the Regulatory Flexibility Act (5 U.S.C. 601 et seq.).

List of Subjects in 40 CFR Part 52

Environmental protection, Air pollution control, Hydrocarbons, Nitrogen dioxide, Ozone.

Dated: June 12, 2000.
Bradley M. Campbell,
Regional Administrator, Region III.

[FR Doc. 00-15521 Filed 6-16-00; 8:45 am]

BILLING CODE 6560-50-P